DEPARTMENT OF THE INTERIOR

Office of the Secretary

[Docket No. ONRR-2012-0003; DS63600000 DR2PS0000.PX8000 145D0102R2]

U.S. Extractive Industries Transparency Initiative Multi-Stakeholder Group (USEITI MSG) Advisory Committee

AGENCY: Policy, Management and Budget, Interior.

ACTION: Notice.

SUMMARY: Following consultation with the General Services Administration, notice is hereby given that the Secretary of the Interior is renewing the United States Extractive Industries Transparency Initiative (USEITI) Federal Advisory Committee (Committee). The Committee was established to advise the Department on the implementation the Extractive Industries Transparency Initiative (EITI), which requires governments to publicly disclose their revenues from oil, gas, and mining assets, and for companies to make parallel disclosures regarding payments. The Committee serves as the Multi-Stakeholder Group and its duties include consideration and fulfillment of the tasks required to achieve EITI compliant status. The Committee reports to the Secretary of the Interior through the Deputy Assistant Secretary, Natural Resources Revenue Management.

FOR FURTHER INFORMATION CONTACT: Ms. Kim Oliver, USEITI Secretariat; 1849 C Street NW., MS-4211, Washington, DC 20240. You may also contact the USEITI Secretariat via email at useiti@ios.doi.gov, by phone at (202) 208-0272, or by fax at (202) 513-0682.

SUPPLEMENTARY INFORMATION: The U.S. Department of the Interior established the USEITI Advisory Committee (Committee) on July 26, 2012, to serve as the initial USEITI multi-stakeholder group. More information about the Committee, including its charter, can be found at www.doi.gov/eiti/faca.

Certification

Certification Statement: I hereby certify that the U.S. Extractive Industries Transparency Initiative (USEITI) Advisory Committee is necessary, is in the public interest, and is established under the authority of the Secretary of the Interior, in support of the Open Government Partnership and the commitment in the United States' National Action Plan to implement the Extractive Industries Transparency Initiative.

Dated: August 13, 2014.
Sally Jewell,
Secretary of the Interior.

[FR Doc. 2014-19898 Filed 8-20-14; 8:45 am]

BILLING CODE 4310-T2-P